DEPARTMENT OF COMMERCE

National Oceanic and Atmospheric Administration

RIN 0648-XC253

Endangered Species; File No. 16733

AGENCY: National Marine Fisheries Service (NMFS), National Oceanic and Atmospheric Administration (NOAA), Commerce.

ACTION: Issuance of permit.

SUMMARY: Notice is hereby given that NMFS Southeast Fisheries Science Center (SEFSC; Responsible Party: Bonnie Ponwith), 75 Virginia Beach Dr., Miami, FL 33149 has been issued a permit to take loggerhead (Caretta caretta), green (Chelonia mydas), Kemp's ridley (Lepidochelys kempii), hawksbill (Eretmochelys imbricata), leatherback (Dermochelys coriacea), and olive ridley (L. olivacea) sea turtles for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Ave South, St. Petersburg, FL 33701; phone (727) 824-5312; fax (727) 824-5309.

FOR FURTHER INFORMATION CONTACT: Amy Hapeman or Kristy Beard, (301) 427-8401.

SUPPLEMENTARY INFORMATION: On September 24, 2012, notice was published in the Federal Register (77 FR 58812) that a request for a scientific research permit to take loggerhead, green, Kemp's ridley, hawksbill, leatherback, and olive ridley sea turtles had been submitted by the above-named organization. The requested permit has been issued under the authority of the Endangered Species Act of 1973, as amended (ESA; 16 U.S.C. 1531 et seq.) and the regulations governing the taking, importing, and exporting of endangered and threatened species (50 CFR parts 222-226).

The permit authorizes aerial, vessel, and acoustic surveys on sea turtles in the North Atlantic Ocean, Gulf of Mexico, Caribbean Sea and their embayments. Sea turtles may be directly captured by hand or using nets or alternatively, sea turtle may be obtained from other legal sources. Authorized procedures for captured sea turtles include: measurements, laboratory experiments, biological sampling, temporary marking, tracking, ultrasound, and/or attachment of transmitters before release back to the wild. Up to six sea turtles may accidentally die over the five-year life of the permit.

Issuance of this permit, as required by the ESA, was based on a finding that such permit (1) was applied for in good faith, (2) will not operate to the disadvantage of such endangered or threatened species, and (3) is consistent with the purposes and policies set forth in section 2 of the ESA.

Dated: August 16, 2013.
P. Michael Payne,
Chief, Permits and Conservation Division, Office of Protected Resources, National Marine Fisheries Service.

[FR Doc. 2013-20367 Filed 8-20-13; 8:45 am]

BILLING CODE 3510-22-P